FEDERAL EMERGENCY MANAGEMENT AGENCY

44 CFR Part 67

[Docket No. FEMA-B-7427]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
California | Yolo, Uninc, Areas Overflow | North Davis Overflow | At Union Pacific Railroad Bridge (confluence with Union Pacific Railroad Drain) | None | *42
|  |  | At Highway 101 A and Union Pacific Railroad Bridge Over North Davis Drain | None | *46
|  | Union Pacific Railroad Drain | At Union Pacific Railroad Bridge (confluence with North Davis Overflow) | None | *42
Maps are available for inspection at City Hall, 292 West Beamer Street, Woodland, California.
Send comments to The Honorable Dave Rosenberg, Chairman, Yolo County Board of Supervisors, 625 Court Street, Room 204, Woodland, California 95695.
California | Davis, (City) Yolo County | North Davis Overflow | At Union Pacific Railroad Bridge (confluence with Union Pacific Railroad Drain) | None | *42
|  |  | Approximately 950 feet upstream of confluence with Union Pacific Railroad Drain | None | *43
|  | Union Pacific Railroad Drain | At Union Pacific Railroad Bridge (confluence with North Davis Overflow) | None | *42
|  |  | Approximately 340 feet downstream of Covell Boulevard | None | *43
Maps are available for inspection at City Hall, 23 Russell Boulevard, Davis, California.
Send comments to The Honorable Ken Wagstaff, Mayor, City of Davis, 23 Russell Boulevard, Davis, California 95616.
California | Lafayette, (City), Contra Costa County | Reliez Creek | Approximately 60 feet upstream of Old Tunnel Road | 250 | *252
|  |  | Approximately 110 feet downstream of Quandt Road | 354 | *352
|  |  | Approximately 160 feet upstream of Pleasant Hill Road | 362 | *368
|  | Reliez Creek Overflow | Along Circle Road from its confluence with Reliez Creek to approximately 300 feet southeast of Ortega Avenue | None | *279
Maps are available for inspection at Lafayette Planning Office, 3675 Mt. Diablo Street, Lafayette, California.
Send comments to The Honorable Don Tatzin, Mayor, City of Lafayette, P.O. Box 1968, Lafayette, California 94549.

Flooding source(s) | Location of referenced elevation | Elevation in feet *(NGVD): Effective | Elevation in feet *(NGVD): Modified | Communities affected
Jefferson County, Colorado and Incorporated Areas
North Branch Airport Creek | Approximately 1,800 feet downstream of Wadsworth Avenue | None | *5,440 | Jefferson County (Uninc. Areas)
| Approximately 700 feet upstream of Wadsworth Avenue | None | *5,534
Bear Creek | Approximately 4,000 feet downstream of South Wadsworth Boulevard | None | *5,357 | City of Lakewood
| Approximately 1,200 feet downstream of South Wadsworth Boulevard | None | *5,373
Bear Creek Tributary No. 3 | Approximately 400 feet downstream of Dedisse Park Road | *7,174 | *7,174 | Jefferson County (Uninc. Areas)
| Approximately 1,300 feet upstream of Dedisse Park Road | *7,260 | *7,260
Lena Gulch | Approximately 600 feet upstream of Orion Street | None | *5,828 | City of Golden
| Approximately 1,500 feet downstream of U.S. Highway 6 | None | *5,885
| Approximately 300 feet downstream of U.S. Highway 6 | None | *5,913
Little Dry Creek | Just downstream of Lowell Boulevard | None | *5,267 | City of Westminister
Sanderson Gulch | Approximately 50 feet upstream of Sheridan Boulevard | *5,416 | *5,415 | City of Lakewood
Ralston Creek | Approximately 1,050 feet upstream of Ward Street | None | *5,458 | Jefferson County (Uninc. Areas)
| Approximately 700 feet downstream of Beech Street | None | *5,472
| Approximately 3,050 feet downstream of Indian Street | None | *5,514
| Approximately 100 feet downstream of Indian Street | None | *5,534
Van Bibber Creek | Just downstream of the Miller Street | *5,365 | *5,374 | Jefferson County (Uninc. Areas)
| Just upstream of Ward Road Bridge | *5,437 | *5,438 |
Walnut Creek | Approximately 1,800 feet upstream of the confluence with Countryside Creek | None | *5,360 | Jefferson County (Uninc. Areas)
Weir Gluch | Apprximately 1,700 feet downstream of Ohio Avenue | None | *5,374 | City of Lakewood
| Just upstream of Sheridan Boulevard | *5,364 | *5,365 |
ADDRESSES
Jefferson County (Unincorporated Areas):
Maps are available for inspection at City Hall, 100 Jefferson County Parkway, Suite 3, Golden, Colorado.
Send comments to The Honorable Michelle Lawrence, Chairperson, Jefferson County, Board of Commissioners, 100 Jefferson County Parkway, Suite 5550, Golden, Colorado 80419.
City of Golden:
Maps are available for inspection at the Planning Department, 1445 10th Street, Golden, Colorado.
Send comments to The Honorable Jan C. Scheneck, Mayor, City of Golden, 911 10th Street, Golden, Colorado 80401.
City of Lakewood:
Maps are available for inspection at the Engineering Division, 445 South Allison Parkway, Lakewood, Colorado.
Send comments to The Honorable Steve Burkholder, Mayor, City of Lakewood, 4800 South Allison Parkway, Lakewood, Colorado 80226.
City of Westminster:
Maps are available for inspection at City Hall, 4800 West 92nd Avenue, Westminster, Colorado.
Send comments to The Honorable Nancy M. Heil, Mayor, City of Westminster, 4800 West 92nd Avenue, Westminster, Colorado 80031.
Hamilton County, Kansas and Incorporated Areas
Arkansas River | Approximately 11,000 feet downstream of State Highway 27 | None | *3,211 | Hamilton County (Uninc. Areas)
| Approximately 2.6 miles upstream of State Highway 27 | None | *3,240
Syracuse Creek | Just upstream of the Atchinson, Topeka, Santa Fe Railroad and U.S. Highway 50 | None | *3,243 | Hamilton County (Uninc. Areas)
| Approximately 2,100 feet upstream of State Highway 27 (US Highway 207) | None | *3,262
Syracuse Creek Overflow | Approximately 500 feet southeast of the Interstate of State Highway 27 and G Avenue | *3,249 | *3,244 | City of Syracuse
ADDRESSES
Hamilton County (Unincorporated Areas):
Maps are available for inspection at Hamilton County Superintendents Office, 219 North Main Street, Syracuse, Kansas.
Send comments to The Honorable Dave Schwieterman, Chairperson, Hamilton County Board of Commissioners, P.O. Box 1167, Syracuse, Kansas 67878.
City of Syracuse:
Maps are available for inspection at City Hall, 109 North Main Street, Syracuse, Kansas.
Send comments to The Honorable Garett Shamburg, Mayor, City of Syracuse, P.O. Box 148, Syracuse, Kansas 67878.
Clay County, Missouri and Incorporated Areas
Fishing River | Approximately 5,000 feet downstream of Highway 3 | None | *780 | City of Kearney
| Just downstream of Burlington North Railroad bridge | None | *786
| Approximately 1,600 feet downstream of Mosby Road | *762 | *763 | City of Mosby
| Approximately 400 feet upstream of U.S. Highway 69 | *772 | *777
| Approximately 6,600 feet downstream of Highway H | *752 | *752 | Village of Prathers
| Just downstream of Highway H | *755 | *757
| Approximately 1,600 feet downstream of Mosby Road | *762 | *760
| Just upstream of Clay/Ray County Border | *732 | *730 | Clay County
| Just upstream of Jesse James Farm Road | *776 | *778 | (Uninc. Areas)
| Just downstream of Interstate 35 bridge | *792 | *788
| Approximately 4,800 feet upstream of Highway A | None | *859
East Fork Fishing River | Confluence with Fishing River | *744 | *745 | Clay County
| Just upstream of 112th Street | *747 | *749 | (Uninc. Areas)
| Approximately 3,800 feet downstream of Seabold Road | *752 | *756
| Approximately 3,800 feet downstream of Seabold Road | *752 | *756 | City of Excelsior Springs
| Just upstream of Sebold Road | *758 | *759
Crockett Creek | Approximately 250 feet upstream of confluence with Holmes Creek | *767 | *772 | Clay County (Uninc. Areas)
| Just downstream of 12th Street | *782 | *783
| Just upstream of Stockdale Road | *810 | *790
| At the Confluence with Holmes Creek | *767 | *772 | City of Mosby
| Approximately 350 feet upstream of the confluence with Holmes Creek | *767 | *772
Holmes Creek | Approximately 250 feet upstream confluence of Crockett Creek | *767 | *772 | Clay County (Uninc. Areas)
| Just upstream of Summersette Road | *770 | *777
| Just upstream of Highway 33 | None | *813
| At the confluence with Fishing River | *764 | *772 | City of Mosby
| Approximately 350 feet upstream of West Mosby Road | *767 | *772
Clear Creek | Confluence with Fishing River | *772 | *777 | Clay County
| Just upstream of 140th Street bridge | *775 | *778 | (Uninc. Areas)
| Just downstream of Interstate 35 | *797 | *794
| Approximately 6,300 feet upstream of Nation Road | None | *824
| Approximately 1,150 feet downstream of Summit Street | None | *783 | City of Kearney
| Just downstream of Interstate 35 | *797 | *794
| Approximately 1,000 feet upstream of Highway 33 | *804 | *801
First Creek | Confluence with Second Creek (Approximately 1,000 feet downstream of Highway 92 bridge) | *836 | *818 | Clay County (Uninc. Areas)
| Just upstream of 144th Street bridge | *849 | *851
| Approximately 2,600 feet upstream of 144th Street bridge | None | *860
| Appoximately 2,900 feet upstream of 144th Street | None | *861 | City of Smithville
Second Creek | Approximately 1,550 feet upstream of Main Street | *817 | *814 | Clay County (Uninc. Areas)
| Confluence of First Creek (Approximately 1,000 feet downstream of Highway 92 bridge) | *836 | *818
| Confluence with Little Platte River | *814 | *814 | City of Smithville
| Approximately 1,550 feet upstream of Main Street | *814 | *814
Rocky Branch | Approximately 1,150 feet upstream from Confluence with Wilkerson Creek | *849 | *846 | Clay County (Uninc. Areas)
| Confluence with Wilkerson Creek | *848 | *846 | City of Smithville
| Just upstream of 140th Street | *865 | *865
Polecat Creek | Confluence with Wilkerson Creek | None | *881 | Clay County (Uninc. Areas)
| Approximately 2,500 feet upstream of Mt. Olive Road | None | *932
Wilkerson Creek | Approximately 1,500 feet upstream of Confluence with Little Platte River | *818 | *816 | Clay County (Uninc. Areas)
| Just downstream of Highway 92 | *840 | *840
| Approximately 5,000 feet upstream of 132th Street bridge | None | *906
| Confluence with Little Platte River | *814 | *814 | City of Smithville
| Appoximately 1,500 feet downstream of 144th Street bridge | *857 | *851
Williams Creek | At the confluence with Fishing River | *756 | *760 | Village of Prathersville
| Approximately 550 feet upstream of the Chicago Rock Island and Pacific Railroad | *761 | *764
ADDRESSES
Clay County (Unincorporated Areas):
Maps are available for inspection at City Hall, 234 W. Shrader Street, Suite C, Liberty, Missouri.
Send comments to The Honorable Thomas Brandon, Presiding Commissioner, Clay County, Board of Commissioners, County Administration Building, Courthouse Square, Liberty, Missouri 64068.
City of Kearney:
Maps are available for inspection at City Hall, 100 East Washington Street, Kearney, Missouri.
Send comments to The Honorable Bill Dane, Mayor, City of Kearney, P.O. Box 797, 100 East Washington Street, Kearney, Missouri 64060.
City of Smithville:
Maps are available for inspection at City Hall, 107 West Main Street, Smithville, Missouri.
Send comments to The Honorable Ron Van Winkle, Mayor, City of Smithville, 107 West Main Street, Smithville, Missouri 64089.
City of Excelsior Springs:
Maps are available for inspection at City Hall, 201 East Broadway, Excelsior Springs, Missouri.
Send comments to The Honorable Benny Ward, Mayor, City of Excelsior Springs, 201 East Broadway, Excelsior Springs, Missouri 64024.
City of Mosby:
Maps are available for inspection at City Hall, 12312 4th Street, Mosby, Missouri.
Send comments to The Honorable Donald Carmichael, Mayor, City of Mosby, 12404 Pony Express Road, Mosby, Missouri 64073.
Village of Prathersville:
Maps are available for inspection at City Hall, 12212 County Road, Excelsior Springs, Missouri.
Send comments to The Honorable Paul Owen, Chairman, Village of Prathers, Board of Trustees, 12212 County Road, Excelsior Springs, Missouri 64024
Okanogan County, Washington and Incorporated Areas
Conconully Reservior | At Conconully Reservoir | None | *2,286 | Town of Conconully, Okanogan County (Uninc. Areas)
ADDRESSES
Okanogan County (Unincorporated Areas):
Maps are available for inspection at City Hall, 123 North Fifth Street, Okanogan, Washington.
Send comments to The Honorable Bob Hirst, Chairperson, Okanogan County Board of Commissioners, 123 North Fifth Street, Room 150, Okanogan, Washington 98840.
Town of Conconully:
Maps are available for inspection at the Town Office, 21 North Main Street, Conconully, Washington.
Send comments to The Honorable Charles Alexander, Mayor, Town of Conconully, Town Office, P.O. Box 127, Conconully, Washington 98819.

(Catalog of Federal Domestic Assistance No. 83.100, “Flood Insurance.”)
Dated: April 3, 2002.
Robert F. Shea,
Acting Administrator, Federal Insurance and Mitigation Administration.

[FR Doc. 02-10219 Filed 4-24-02; 8:45 am]

BILLING CODE 6718-04-P